DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than May 28, 2013.

Interested persons are invited to submit written comments regarding the subject matter of the investigations to the Director, Office of Trade Adjustment Assistance, at the address shown below, not later than May 28, 2013.

The petitions filed in this case are available for inspection at the Office of the Director, Office of Trade Adjustment Assistance, Employment and Training Administration, U.S. Department of Labor, Room N-5428, 200 Constitution Avenue NW., Washington, DC 20210.

Signed at Washington, DC, this 24th of April 2013.
Elliott S. Kushner,
Certifying Officer, Office of Trade Adjustment Assistance.

Appendix
[22 TAA petitions instituted between 4/15/13 and 4/19/13]
TA-W No. | Subject firm (petitioners) | Location | Date of institution | Date of petition
82650 | Parker Hannifin Corporation (Union) | Youngstown, OH | 04/17/13 | 04/11/13
82651 | Anthem Workers Compensation (Workers) | Costa Mesa, CA | 04/17/13 | 04/10/13
82652 | American Air Filter (Workers) | Lebanon, IN | 04/17/13 | 04/12/13
82653 | Libbey Glass (State/One-Stop) | Shreveport, LA | 04/17/13 | 04/12/13
82654 | Collom and Carney Clinic (Workers) | Texarkana, TX | 04/17/13 | 04/13/13
82655 | CPI Corporation (State/One-Stop) | St. Louis, MO | 04/17/13 | 04/10/13
82656 | Eagle Industries, LLC (Workers) | Bowling Green, KY | 04/17/13 | 04/12/13
82657 | Midwest Electric Products, Inc. (State/One-Stop) | Mankato, MN | 04/18/13 | 04/16/13
82658 | SunTrust Bank (State/One-Stop) | Richmond, VA | 04/18/13 | 04/12/13
82659 | Harsco Metals Operations (State/One-Stop) | Blytheville, AR | 04/18/13 | 04/15/13
82660 | Conmed Linvatec (State/One-Stop) | Goleta, CA | 04/18/13 | 04/15/13
82661 | McKechnie Vehicle Components (Workers) | Newberry, SC | 04/18/13 | 04/16/13
82662 | Thomas Nelson Inc. (Company) | Nashville, TN | 04/18/13 | 04/15/13
82663 | Beldon Inc. (Workers) | Horseheads, NY | 04/18/13 | 04/16/13
82664 | Jabil Circuit Inc. (Workers) | Auburn Hills, MI | 04/18/13 | 04/16/13
82665 | William Arthur, Inc. (State/One-Stop) | West Kennebunk, ME | 04/18/13 | 04/17/13
82666 | Johnson Electric (Company) | Springfield, TN | 04/18/13 | 04/17/13
82667 | Chromalloy Gas Turbine, LLC (Oklahoma Facility) (Company) | Gallatin, TN | 04/18/13 | 04/17/13
82668 | Optical Supply Inc. (Workers) | Grand Rapids, MI | 04/18/13 | 04/16/13
82669 | U.S. Textile Corporation (Company) | Newland, NC | 04/18/13 | 04/17/13
82670 | Cynsational Hair Care Services (Company) | Lake City, SC | 04/18/13 | 04/17/13
82671 | Johnstown Specialty Castings Inc. (Company) | Johnstown, PA | 04/18/13 | 04/17/13

[FR Doc. 2013-11465 Filed 5-14-13; 8:45 am]

BILLING CODE 4510-FN-P